DEPARTMENT OF THE INTERIOR

Bureau of Land Management

[15X.LLID990000 L14400000.EU0000 LXSSD0190000 241A 4500057150; IDI-37482]

Notice of Realty Action: Proposed Competitive Sealed-Bid, Oral Auction Sale and Segregation of Public Land in Owyhee County, ID

AGENCY: Bureau of Land Management, Interior.

ACTION: Notice.

SUMMARY: The Bureau of Land Management (BLM) proposes to offer a parcel of public land totaling 120.84 acres in Owyhee County, Idaho, by competitive sealed-bid and oral auction sale for a price not less than the fair market value (FMV) of $ 77,000. The sale will be subject to applicable provisions of Section 203 of the Federal Land Policy and Management Act (FLPMA) of 1976, as amended, and applicable BLM regulations.

DATES: Submit written comments via email, hand delivery, or mail. Comments must be received by the BLM Boise District Office on or before March 7, 2016. The period to submit sealed-bids and the sale date will be no earlier than March 21, 2016, which will be a minimum of 30 days prior to the sale date, through publication in a local newspaper, online media, and by mail to interested parties who submit a written request for information regarding the sale. The BLM must be in receipt of your request for information by the deadline for submission of written comments. The sale date will be no earlier than April 20, 2016.

ADDRESSES: Submit written comments concerning this notice to BLM Boise District, 3948 Development Avenue, Boise, ID 83705. Email comments to hemingway@blm.gov.

FOR FURTHER INFORMATION CONTACT: Jeremy Bluma, Realty Specialist, 208-384-3348, or email jbluma@blm.gov. Persons who use a telecommunications device for the deaf (TDD) may call the Federal Information Relay Service (FIRS) at 1-800-877-8339 to contact Mr. Bluma. The FIRS is available 24 hours a day, 7 days a week, to leave a message or question with Mr. Bluma. You will receive a reply during normal business hours.

SUPPLEMENTARY INFORMATION: The BLM proposes to offer the following parcel of public land for a competitive sale:

Boise Meridian, Idaho

T. 1 S., R. 3 W.,

Sec. 11, lots 1 through 3.

The area described contains 120.84 acres.

The map delineating the sale parcel is available for public review at the Boise District Office. The lands are not suitable for management by other Federal agencies. A mineral potential report concludes that the sale parcel has known mineral values; therefore, the mineral estate will be reserved to the United States pursuant to 43 CFR 2720.0-6. The competitive sale is consistent with the 1999 Owyhee Resource Management Plan (RMP), Record of Decision, dated, December 30, 1999. The sale parcel conforms to the RMP decision “Land 2,” and the land is suitable for sale under the authority of Section 203 of FLPMA in the approved RMP.

Upon publication of this Notice in the Federal Register the subject land is segregated from all forms of appropriation under the public land laws, including the mining laws, except for the sale provisions of FLPMA.

This segregative effect will terminate upon issuance of a patent, publication in the Federal Register of a termination of the segregation or January 22, 2018, unless extended by the BLM Idaho State Director in accordance with 43 CFR 2711.1-2(d) prior to the termination date.

Until completion of the sale, the BLM will no longer accept land use applications affecting the sale parcel, except applications for the amendment of previously filed right-of-way (ROW) applications or existing authorizations to increase the term of the grants in accordance with 43 CFR 2807.15 and 2886.15.

Prior to patent issuance, the BLM will notify valid existing right-of-way holder of record of their ability to convert their existing ROW to a new term, including perpetuity, if applicable, or conversion to an easement. In accordance with Federal regulations at 43 CFR 2807.15, once notified, each valid holder may apply for the conversion of their current authorization. The conveyance document would be subject to the following terms, covenants, conditions, and reservations:

1. A reservation to the United States of a ROW for ditches and canals constructed by authority of the United States under the Act of August 30, 1890 (43 U.S.C. 945);

2. A reservation to the United States of all minerals, together with the right to prospect for, mine, and remove such deposits from the same under applicable law and such regulations as the Secretary of the Interior may prescribe;

3. The parcel will be subject to all valid existing rights;

4. By accepting patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (1) Violations of Federal, State, and local laws and regulations applicable to the real property; (2) Judgments, claims or demands of any kind assessed against the United States; (3) Costs, expenses, damages of any kind incurred by the United States; (4) Releases or threatened releases of solid or hazardous waste(s) and/or hazardous substances(s), as defined by Federal or State environmental laws, off, on, into or under land, property and other interests of the United States; (5) Activities by which solid or hazardous substances or wastes, as defined by Federal and State environmental laws were generated, released, stored, used or otherwise disposed of on the patented real property, and any cleanup response, remedial action, or other actions related in any manner to said solid or hazardous substances or wastes; or (6) Natural resource damages as defined by Federal and State law. This covenant shall be construed as running with the patented real property, and may be enforced by the United States in a court of competent jurisdiction;

5. Pursuant to the requirements in Section 120(h) of the Comprehensive Environmental Response, Compensation and Liability Act U.S.C. 9620 (h), notice is hereby given that the sale parcel has been examined and no evidence was found to indicate that any hazardous substances have been stored for 1 year or more, nor have any hazardous substances been disposed of or released on the subject property; and

6. No warranty of any kind, express or implied, is given by the United States or its officers or employees, as to title, access to or from the above sale parcel of land, whether or to what extent the land may be developed, its physical condition, or past, present, or future use, or any other circumstances or condition. The conveyance of any such parcel will not be on a contingency basis.

In order to determine the FMV through appraisal, certain extraordinary assumptions and hypothetical conditions may be made concerning the attributes and limitations of the lands and potential effects of local regulations and policies on potential future land uses. Through publication of this Notice, the BLM advises that the units of local government may not endorse or approve these assumptions.

Sale Procedures: The parcel will be sold by sealed-bid followed by an oral auction. Sealed-bid envelopes must be clearly marked on the front lower left corner with: “SEALED-BID BLM LAND SALE IDI-37482.” Sealed-bids must include 20 percent of the bid amount and their bid payment in the form of a certified check, postal money order, bank draft, or cashier's check or any combination thereof, and made payable in U.S. dollars to the Department of the Interior—Bureau of Land Management. Personal or company checks will not be accepted. In addition to the deposit, the sealed-bid envelope must contain a completed and signed “Certificate of Eligibility” form stating the name, mailing address, and telephone number of the entity or person submitting the bid. Certificate of Eligibility forms are available at the BLM Boise District Office at the address listed in the ADDRESSES section of this notice.

Sealed-bids will be opened and recorded on the sale date to determine the high bid among the qualified bids received. The highest qualified sealed-bid will become the starting point for subsequent oral bidding. Any bids in an amount less than the federally approved FMV will not be considered. The BLM will send the successful high bidder(s) a letter with information regarding full payment.

All funds submitted with an unsuccessful bid will be returned to the bidders or their authorized representative upon presentation of acceptable photo identification at the BLM Boise District Office or by certified mail. If a bidder defaults on the sale parcel, the BLM may retain the bid deposit and cancel the sale of that parcel. If a high bidder is unable to consummate the transaction for any other reason, the second highest bid at or above the FMV may be considered. If there are no acceptable bids, the parcel may remain available for over-the counter sale on a continuing basis in accordance with competitive sale procedures without further legal notice.

Federal law requires that bidders must be: (1) United States citizens 18 years of age or older; (2) A corporation subject to the laws of any State or of the United States; (3) An entity legally capable of conveying and holding lands or interests therein under the laws of the State of Idaho within which the lands to be conveyed are located; or (4) A State, State instrumentality, or political subdivision authorized to hold real property. United States citizenship is evidenced by presenting a birth certificate, passport, or naturalization papers. Failure to submit the above requested documents to the BLM within 30 days from receipt of the high-bidder letter shall result in cancellation of the sale and forfeiture of the bid deposit.

No contractual or other rights against the United States may accrue until the BLM officially accepts the offer to purchase and the full bid price is paid.

Unless other satisfactory arrangements are approved in advance by a BLM authorized officer, conveyance of title shall be through the use of escrow. Designation of the escrow agent shall be through mutual agreement between the BLM and the prospective patentee, and costs of escrow shall be borne by the prospective patentee. Requests for all escrow instructions must be received by the BLM Boise District Office prior to 30 days before the prospective patentee's scheduled closing date. There will be no exceptions.

All name changes and supporting documentation must be received at the BLM Boise District Office by 3 p.m., Mountain Time (MT) no later than 30 days from the date noted on the high-bidder letter. Name changes will not be accepted after that date. To submit a name change, the apparent high bidder must submit the name change in writing on the Certificate of Eligibility form to the BLM Boise District Office.

The remainder of the full bid price for the parcel must be paid no later than 3 p.m. MT on the 180th day following the sale date. Payment must be submitted in the form of a certified check, U.S. postal money order, bank draft, cashier's check, or made available by electronic fund transfer made payable in U.S. dollars to the “Bureau of Land Management” to the BLM Boise District Office. Personal or company checks will not be accepted. Arrangements for electronic fund transfer to BLM for payment of the balance due must be made a minimum of 2 weeks prior to the payment date. The BLM will not accept the remainder of the bid price after the 180th day following the sale date. Failure to pay the full bid price prior to the expiration of the 180th day will disqualify the apparent high bidder and cause the entire bid deposit to be forfeited to the BLM. Forfeiture of the bid deposit is in accordance with 43 CFR 2711.3-1(d). No exceptions will be made. The BLM cannot accept the remainder of the bid price after the 180th day following the sale date.

The BLM will not sign any documents related to 1031 Exchange transactions. The timing for completion of an exchange is the bidder's responsibility. The BLM cannot be a party to any 1031 Exchange.

In accordance with 43 CFR 2711.3-1(f), within 30 days following the date of the sale, the BLM may accept or reject any or all offers to purchase, or withdraw any parcel of land or interest therein from sale if, in the opinion of the BLM authorized officer, consummation of the sale would be inconsistent with any law, or for other reasons as may be provided by applicable laws or regulations. No contractual or other rights against the United States may accrue until the BLM officially accepts the offer to purchase and the full bid price is paid.

It is the buyer's responsibility to be aware of all applicable Federal, State, and local government laws, regulations and policies that may affect the subject lands, including any required dedication of lands for public uses. It is the buyer's responsibility to be aware of existing or prospective uses of nearby properties. When conveyed out of Federal ownership, the lands would be subject to any applicable laws, regulations, and policies of the applicable local government for future uses. It is the responsibility of the purchaser to be aware through due diligence of those laws, regulations, and policies, and to seek any local approvals for future uses. Buyers should make themselves aware of any Federal or State laws or regulations that may affect the future use of the property. Any public land lacking access from a public road or highway would be conveyed as such, and future access acquisition would be the responsibility of the buyer.

Information concerning the sale, encumbrances of record, appraisals, reservations, sale procedures and conditions, the CERCLA, and other environmental documents that may appear in the BLM public files for the sale parcel are available for review at the BLM Boise District Office during business hours, 8:30 a.m. to 3:30 p.m. MT, Monday through Friday, except during Federal holidays.

Before including your address, phone number, email address, or other personal identifying information in your comment, you should be aware that your entire comment—including any personal identifying information—may be made publicly available at any time. While you can ask us in your comment to withhold your personal identifying information from public review, we cannot guarantee that we will be able to do so. Any adverse comments regarding this sale will be reviewed by the Idaho BLM State Director or other authorized official of the Department of the Interior, who may sustain, vacate, or modify this realty action. In the absence of any adverse comments, this realty action will become the final determination of the Department of the Interior.

Authority: 43 CFR part 2710.

Michelle Ryerson,
Field Manager, BLM Owyhee Field Office.

[FR Doc. 2016-01188 Filed 1-20-16; 8:45 am]

BILLING CODE 4310-GG-P